FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012067-019.

Title: U.S. Supplemental Agreement to the HLC Agreement.

Parties: BBC Chartering Carriers GmbH & Co. KG and BBC Chartering & Logistic GmbH & Co. KG (acting as a single party); Chipolbrok (Chinese-Polish Joint Stock Shipping Company); Hanssy Shipping Pte. Ltd.; Industrial Maritime Carriers, L.L.C; and Rickmers-Linie GmbH & Cie. KG.

Filing Party: Wade S. Hooker, Esq.; 211 Central Park W.; New York, NY 10024.

Synopsis: The amendment deletes Peter Dohle Schiffahrts KG as a party to the HLC Agreement attached to the U.S. Supplemental Agreement.\

Agreement No.: 012301-003.

Title: Siem Car Carrier AS/Volkswagen Logistics Konzernlogistik GMBH & Co. OHG Space Charter Agreement.

Parties: Siem Car Carrier Pacific AS and Volkswagen Konzernlogistik GmBH & Co. OHG.

Filing Party: Ashley W. Craig, Esq. and Elizabeth K. Lowe, Esq.; Venable LLP; 575 Seventh Street NW., Washington, DC 20004.

Synopsis: The amendment expands the geographic scope of the Agreement to include all ports and points in the U.S. and all ports and points worldwide.

Agreement No.: 012488.

Title: THE Alliance/OOCL Vessel Sharing Agreement.

Parties: Hapag Lloyd AG, Kawasaki Kisen Kaisha, Ltd., Mitsui O.S.K. Lines, Ltd., Nippon Yusen Kaisha, and Yang Ming Marine Transport Corp (acting as a single party); and Orient Overseas Container Line Limited.

Filing Party: David Smith and Joshua Stein; Cozen O'Connor; 1200 19th Street NW.; Washington, DC 20036.

Synopsis: The Agreement authorizes the Parties to charter and exchange space on their respective vessels in the trade between the U.S. Pacific Coast and Japan, and to enter into cooperative working arrangements in connection therewith.

By Order of the Federal Maritime Commission.
Dated: July 28, 2017.
JoAnne D. O'Bryant,
Program Analyst.

[FR Doc. 2017-16264 Filed 8-1-17; 8:45 am]

BILLING CODE 6731-AA-P